DEPARTMENT OF LABOR

Occupational Safety and Health Administration

[Docket No. NRTL1-89]

Intertek Testing Services NA, Inc., Expansion of Recognition

AGENCY: Occupational Safety and Health Administration (OSHA), Labor.

ACTION: Notice.

SUMMARY: This notice announces the Agency's final decision to approve an expansion of its recognition of Intertek Testing Services NA, Inc., (ITSNA) as a Nationally Recognized Testing Laboratory (NRTL) to include an additional 46 test standards. ITSNA is also approved to use one other test standard, ANSI/BHMA A156.3 Exit Devices, on an interim basis, subject to review.

DATES: Recognition: This recognition becomes effective on November 4, 2003 and, unless modified in accordance with 29 CFR 1910.7, continues in effect while ITSNA remains recognized by OSHA as an NRTL. Comments on Interim Approval: Comments on the interim approval for test standard ANSI/BHMA A156.3 Exit Devices must be received no later than November 19, 2003.

ADDRESSES: Submit comments on the interim approval for test standard ANSI/BHMA A156.3 Exit Devices to: the OSHA Docket Office, Docket NRTL1-89, Room N-2625, U.S. Department of Labor, Occupational Safety and Health Administration, 200 Constitution Avenue, NW., Washington DC, 20210.

FOR FURTHER INFORMATION CONTACT: Bernard Pasquet or Roy Resnick, Office of Technical Programs and Coordination Activities, NRTL Program, Occupational Safety and Health Administration, U.S. Department of Labor, 200 Constitution Avenue NW., Room N3653, Washington DC 20210, or phone (202) 693-2110.

SUPPLEMENTARY INFORMATION:

Notice of Final Decision

The Occupational Safety and Health Administration (OSHA) hereby gives notice of the expansion of recognition of Intertek Testing Services NA, Inc., (ITSNA) as a Nationally Recognized Testing Laboratory (NRTL). ITSNA's expansion covers the use of additional test standards. OSHA's current scope of recognition for ITSNA may be found in the following informational Web page: http://www.osha-slc.gov/dts/otpca/nrtl/its.html.

OSHA recognition of an NRTL signifies that the organization has met the legal requirements in § 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in appendix A to 29 CFR 1910.7. This appendix requires that the Agency publish two notices in the Federal Register in processing an application. In the first notice, OSHA announces the application and provides its preliminary finding and, in the second notice, the Agency provides its final decision on the application. These notices set forth the NRTL's scope of recognition or modifications of that scope.

ITSNA submitted an application, dated June 3, 2002 (see Exhibit 43), to expand its recognition to use 141 additional test standards. The NRTL Program staff determined that 94 of the 141 test standards cannot be included in the expansion because they either are not “appropriate test standards,” within the meaning of 29 CFR 1910.7(c), or are already included in ITSNA's scope. The staff makes similar determinations in processing expansion requests from any NRTL. Therefore, OSHA approves 47 test standards for the expansion, which are listed below. However, one of these standards was inadvertently excluded from the listing published in the preliminary notice. Therefore, only 46 standards were listed even though the notice showed the total was 47. We are including this standard in the expansion as explained below under Interim Approval Subject to Review.

In connection with ITSNA's expansion request, OSHA did not perform an on-site review (evaluation) of ITSNA. However, an OSHA NRTL Program assessor reviewed information pertinent to this request and recommended that ITSNA be granted the expansion (see Exhibit 45). OSHA delayed processing of this request, in part, through no fault of the NRTL.

OSHA published the notice of its preliminary findings on the expansion request in the Federal Register on June 20, 2003 (68 FR 37026). The notice requested submission of any public comments by July 7, 2003. OSHA did not receive any comments pertaining to the application.

The previous notices published by OSHA for ITSNA's recognition covered another expansion of recognition, which became effective on March 25, 2003 (68 FR 14430).

You may obtain or review copies of all public documents pertaining to the ITSNA application by contacting the Docket Office, Occupational Safety and Health Administration, U.S. Department of Labor, 200 Constitution Avenue NW., Room N2625, Washington, DC 20210. You should refer to Docket No. NRTL1-89, the permanent record of public information on ITSNA's recognition.

The current addresses of the ITSNA facilities already recognized by OSHA are:

ITSNA Atlanta, 1950 Evergreen Blvd., Suite 100, Duluth, Georgia 30096

ITSNA Boxborough, 70 Codman Hill Road, Boxborough, Massachusetts 01719

ITSNA Cortland, 3933 U.S. Route 11, Cortland, New York 13045

ITSNA Lexington, 731 Enterprise Drive, Lexington, Kentucky 40510

ITSNA Los Angeles, 27611 LaPaz Road, Suite C, Laguna Niguel, California 92677

ITSNA Madison, 8431 Murphy Drive, Middleton, Wisconsin 53562

ITSNA Minneapolis, 7250 Hudson Blvd., Suite 100, Oakdale, Minnesota 55128

ITSNA San Francisco, 1365 Adams Court, Menlo Park, CA 94025

ITSNA Sweden AB, Box 1103, S-164 #22, Kista, Stockholm, Sweden

ITSNA Totowa, 40 Commerce Way, Unit B, Totowa, New Jersey 07512

ITSNA Vancouver, 211 Schoolhouse Street, Coquitlam, British Columbia, V3K 4X9 Canada

ITSNA Hong Kong, 2/F., Garment Centre, 576 Castle Peak Road, Kowloon, Hong Kong

ITSNA Taiwan, 14/F., Huei Fung Building, 27, Chung Shan North Road, Sec. 3, Taipei 10451, Taiwan

Interim Approval Subject to Review

As mentioned above, one of the test standards was inadvertently excluded from the listing of test standards in the preliminary notice. The standard is ANSI/BHMA A156.3 Exit Devices. Therefore, OSHA is expanding the recognition of ITSNA to include this standard. The total approved for the expansion remains at 47, the number mentioned in the preliminary notice. However, since this standard was not included in the preliminary notice, the Agency will provide interested parties an opportunity to comment. Comments submitted by interested parties must be received no later than November 19, 2003 at the address listed above. If we receive comments, OSHA will determine whether additional procedures are necessary.

Existing Conditions

Currently, OSHA imposes certain conditions on its recognition of ITSNA. As mentioned in previous notices, these conditions continue to apply solely to ITSNA's NRTL operations and are in addition to any other condition that OSHA normally imposes in its recognition of an organization as an NRTL. One condition refers to “ITSLtd”, which represents Intertek Testing Services, Ltd., the parent company of ITSNA. For background as to why we imposed the condition, see 63 FR 69676, December 17, 1998, and 66 FR 29178, May 29, 2001. We include these conditions in this notice mainly for information and list them first under the Conditions section below.

Final Decision and Order

The NRTL Program staff has examined the application, the assessor's recommendation, and other pertinent information. Based upon this examination and the recommendation, OSHA finds that Intertek Testing Services NA, Inc., has met the requirements of 29 CFR 1910.7 for expansion of its recognition to include an additional 46 test standards subject to the limitation and conditions listed below, and one added standard subject to further review. Pursuant to the authority in 29 CFR 1910.7, OSHA hereby expands the recognition of ITSNA, subject to this limitation and these conditions.

Limitation

OSHA limits the expansion to testing and certification of products for demonstration of conformance to the following 46 test standards, and OSHA has determined the standards are appropriate within the meaning of 29 CFR 1910.7(c).

* ANSI/BHMA A156.3 Exit Devices [interim approval only]

ANSI Z21.69 Connectors for Movable Gas Appliances

ANSI Z21.86 Vented Gas-Fired Space Heating Appliance

ANSI Z21.88 Vented Gas Fireplace Heaters

UL 6A Electrical Rigid Metal Conduit—Aluminum, Bronze, and Stainless Steel

ANSI/NFPA 11 Low Expansion Foam and Combined Agent Systems

ANSI/NFPA 11A Medium- and High-Expansion Foam Systems

ANSI/NFPA 12 Carbon Dioxide Extinguishing Systems

ANSI/NFPA 12A Halon 1301 Fire Extinguishing Agent Systems

ANSI/NFPA 17 Dry Chemical Extinguishing Systems

ANSI/NFPA 20 Installation of Stationary Pumps for Fire Protection

UL 497C Protectors for Coaxial Communications Circuits

UL 498A Current Taps and Adapters

UL 508A Industrial Control Equipment

UL 514D Cover Plates for Flush-Mounted Wiring Devices

UL 536 Flexible Metallic Hose

UL 698A Industrial Control Panels Relating to Hazardous (Classified) Locations

UL 789 Indicator Posts for Fire-Protection Service

UL 797A Electrical Metallic Tubing—Aluminum

UL 963 Sealing, Wrapping, and Marking Equipment

UL 1425 Cables for Non-Power-Limited Fire-Alarm Circuits

UL 1434 Thermistor-Type Devices

UL 1653 Electrical Nonmetallic Tubing

UL 1655 Community-Antenna Television Cables

UL 1682 Plugs, Receptacles, and Cable Connectors, of the Pin and Sleeve Type

UL 1699 Arc-Fault Circuit-Interrupters

UL 1741 Inverters, Converters, and Controllers for Use in Independent Power Systems

UL 1887 Fire Test of Plastic Sprinkler Pipe for Flame and Smoke Characteristics

¹ UL 2017 General Purpose Signaling Devices and Systems

¹ This standard is approved for testing and certification of vehicle battery adaptors for use within recreational vehicles and mobile homes.

² UL 2089 Vehicle Battery Adapters

² Limited to electrical portions only.

UL 2125 Motor-Operated Air Compressors for Use in Sprinkler Systems

UL 2127 Inert Gas Clean Agent Extinguishing System Unit

UL 2166 Halocarbon Clean Agent Extinguishing System Units

UL 2202 Electric Vehicle (EV) Charging System Equipment

UL 2227 Overfilling Prevention Devices

UL 60335-2-34 Household and Similar Electrical Appliances, Part 2; Particular Requirements for Motor-Compressors

UL 60730-2-4 Automatic Electrical Controls for Household and Similar Use; Part 2: Particular Requirements for Thermal Motor Protectors for Motor Compressors or Hermetic and Semi-Hermetic Type

UL 60730-2-6 Automatic Electrical Controls for Household and Similar Use; Part 2: Particular Requirements for Automatic Electrical Pressure Sensing Controls Including Mechanical Requirements

UL 60730-2-9 Automatic Electrical Controls for Household and Similar Use; Part 2: Particular Requirements for Temperature Sensing Controls

UL 60730-2-10A Automatic Electrical Controls for Household and Similar Use; Part 2: Particular Requirements for Electrically-Operated Motor Starting Relays

UL 60730-2-11A Automatic Electrical Controls for Household and Similar Use; Part 2: Particular Requirements for Energy Regulators

UL 60730-2-12A Automatic Electrical Controls for Household and Similar Use; Part 2: Particular Requirements for Electrically-Operated Doors

UL 60730-2-13A Automatic Electrical Controls for Household and Similar Use; Part 2: Particular Requirements for Humidity Sensing Controls

UL 60730-2-14 Automatic Electrical Controls for Household and Similar Use; Part 2: Particular Requirements for Electric Actuators

UL 61010A-2-020 Electrical Equipment for Laboratory Use; Part 2: Particular Requirements for Laboratory Centrifuges

UL 61010C-1 Process Control Equipment

UL 61058-1 Switch for Appliances

Note: Testing and certification of gas operated equipment is limited to equipment for use with “liquefied petroleum gas” (“LPG” or “LP—Gas”)

OSHA's recognition of ITSNA, or any NRTL, for a particular test standard is limited to equipment or materials (i.e., products) for which OSHA standards require third party testing and certification before use in the workplace. Consequently, any NRTL's scope of recognition excludes any product(s) that fall within the scope of a test standard, but for which OSHA standards do not require NRTL testing and certification.

Many of the UL test standards listed above also are approved as American National Standards by the American National Standards Institute (ANSI). However, for convenience, we use the designation of the standards developing organization (e.g., UL 536) for the standard, as opposed to the ANSI designation (e.g., ANSI/UL 536). Under our procedures, any NRTL recognized for an ANSI-approved test standard may use either the latest proprietary version of the test standard or the latest ANSI version of that standard. (Contact ANSI or the ANSI web site (http://www.ansi.org) and click “NSSN” to find out whether or not a test standard is currently ANSI-approved.)

Conditions

Intertek Testing Services NA, Inc., must also abide by the following conditions of the recognition, in addition to those already required by 29 CFR 1910.7:

ITSNA may perform safety testing for hazardous location products only at the specific ITSNA sites that OSHA has recognized, and that have been pre-qualified for such testing by the ITSNA Chief Engineer. In addition, all safety test reports for hazardous location products must undergo a documented review and approval at the Cortland testing facility by a test engineer qualified in hazardous location safety testing, prior to ITSNA's initial or continued authorization of the certifications covered by these reports;

ITSNA may not test and certify any products for a client that is a manufacturer or vendor that is either owned in excess of 2% by ITSLtd or affiliated organizationally with ITSNA;

ITSNA must have specific written testing procedures in place before testing products covered by any test standard for which it is recognized and must use these procedures in testing and certifying those products;

OSHA must be allowed access to ITSNA's facilities and records for purposes of ascertaining continuing compliance with the terms of its recognition and to investigate as OSHA deems necessary;

If ITSNA has reason to doubt the efficacy of any test standard it is using under this program, it must promptly inform the organization that developed the test standard of this fact and provide that organization with appropriate relevant information upon which its concerns are based;

ITSNA must not engage in or permit others to engage in any misrepresentation of the scope or conditions of its recognition. As part of this condition, ITSNA agrees that it will allow no representation that it is either a recognized or an accredited Nationally Recognized Testing Laboratory (NRTL) without clearly indicating the specific equipment or material to which this recognition is tied, or that its recognition is limited to certain products;

ITSNA must inform OSHA as soon as possible, in writing, of any change of ownership, facilities, or key personnel, and of any major changes in its operations as an NRTL, including details;

ITSNA will meet all the terms of its recognition and will comply with all OSHA policies pertaining to this recognition; and

ITSNA will continue to meet the requirements for recognition in all areas where it has been recognized.

Signed at Washington, DC this 24th day of October, 2003.
John L. Henshaw,
Assistant Secretary.

[FR Doc. 03-27647 Filed 11-3-03; 8:45 am]

BILLING CODE 4510-26-P